DEPARTMENT OF TRANSPORTATION

Federal Aviation Administration

14 CFR Part 71

[Docket No. FAA-2018-0221; Airspace Docket No. 17-ANM-24]

RIN 2120-AA66

Amendment, Revocation, and Establishment of Air Traffic Service (ATS) Routes; Western United States

AGENCY: Federal Aviation Administration (FAA), DOT.

ACTION: Final rule.

SUMMARY: This action modifies three United States Area Navigation (RNAV) routes (T-274, T-276, and T-302), removes one RNAV route (T-304), and establishes five RNAV routes (T-268, T-317, T-328, T-332, and T-355) in the western United States. These amendments promote operational efficiencies for users and provide connectivity to current and proposed RNAV enroute and terminal procedures.

DATES: Effective date 0901 UTC, January 30, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Kenneth Ready, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports modifying, removing, and establishing the air traffic service route structure in the western United States to maintain the efficient flow of air traffic.

History

On April 26, 2018, The FAA published a notice of proposed rulemaking (NPRM) in the Federal Register for Docket No. FAA-2018-0221 (83 FR 18237; April 26, 2018), to amend three United States Area Navigation (RNAV) routes (T-274, T-276, and T-302), remove one RNAV route (T-304), and establish five RNAV routes (T-268, T-317, T-328, T-332, and T-355) in the western United States. Interested parties were invited to participate in this rulemaking effort by submitting written comments on the proposal. No comments were received.

United States Area Navigation Routes are published in paragraph 6011, of FAA Order 7400.11D dated August 8, 2019, and effective September 15, 2019, which is incorporated by reference in 14 CFR 71.1. The RNAV route listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the NPRM

Subsequent to publication of the NPRM, the FAA identified an error in criteria for points along a route. Typically, a legal description for an airway does not require all points along a route if in a straight line. Each route in this rule has added points along the route, which are operational advantages for air traffic control procedures that were not identified in the NPRM legal descriptions. The error identified stipulated a point must be on the route when the point has a one-degree or greater turn. The added points do not change the direction of the flight, does not add length to any of the routes, and does not change the start or stop points of any of the routes. For these reasons the FAA in amending the legal descriptions in the best interest of the flying public.

The Rule

The FAA is amending Title 14 Code of Federal Regulations (14 CFR) part 71 by amending RNAV routes T-274, T-276, and T-302; removing RNAV route T-304, and establishing RNAV routes T-268, T-317, T-328, T-332, and T-355. The route changes are outlined below.

T-268: T-268 is established from the Tatooush, WA (TOU), VORTAC to the Bismarck, ND (BIS), VOR/DME. T-268 provides a route structure around Seattle Class B airspace to the northwest extending east, providing the lowest minimum enroute altitude (MEA) across the Cascade Mountain Range, lower than existing victor airways where icing conditions are prevalent. The airway extends east through air traffic control terminal airspace areas, borders the Powder River Military Operations Areas (MOAs) to the north, and terminates in North Dakota.

T-274: T-274 is amended to provide a route across the Cascade Mountain Range in central Oregon. Once east of the mountain range, it provides a RNAV route between and past several MOAs, past Reno, Nevada and terminating just prior to Los Angeles, CA Air Route Traffic Control Center (ARTCC) airspace.

T-276: T-276 is amended to extend west to Ocean Shores, WA and to the east, providing a route through the Columbia Gorge, bordering the Boardman MOA to the north. The route continues east past Walla Walla, WA, Missoula, MT, Great Falls, MT, and Lewistown, MT, bordering the HAYS MOA to the east, and terminated at Glasgow, MT.

T-302: T-302 is amended to extend to the southeast providing a RNAV route bordering the JUNIPER and SADDLE MOAs. The route continues past Boise, ID, and Twin Falls, ID, then southeast to Rock Springs, WY. From Rock Springs, the route continues east, terminating at LLUKY waypoint south of LAKEANDES MOA in Nebraska. This route provides connectivity to terminal instrument approach procedures at several airports.

T-304: T-304 is removed. This amendment corrects the numbering of the route and is in line with current policy.

T-317: T-317 is established from the Newman, TX (EWM), VORTAC to the Astoria, OR (AST), VOR/DME. T-317 provides an RNAV route replacing portions of V-187, which was affected by the discontinuance of the McChord VORTAC.

T-328: T-328 is established from the ORCUS, WA, fix to the KARSH, MT, fix. T-328 is a new airway that provides a route across the Cascade Mountain Range in northern Washington State where no low altitude airways exist today. This route borders the Okanogan MOA to the south, providing a safe route around the airspace. The route borders the Spokane, WA, terminal airspace and connects with instrument approach procedures, and provids a seamless transition from enroute to the landing phase of flight.

T-332: T-332 is established from the ZONUV, WA, waypoint (WP) to the ROZTY, WA, WP. T-332 is a new route across the Cascade Mountain Range in northern Washington State. This route is a shorter route through the Okanogan MOA, to be used when released for joint use. This route provides an MEA of 10,700 feet, which is 1,000 feet lower than another route to the south. This route saves over 60 flying miles to get to a low MEA across the mountain range where icing conditions are prevalent.

T-355: T-355 is established to extend south and north of the previous airway T-304, thus replacing the original west to east T-304 airway. T-355 extends north and south of the original T-304 route to provide greater utility for air traffic. The route provides crossings of the Cascade Mountain Range and provides for connectivity to terminal areas in the Bend, OR and Medford, OR airports. On the south end, the route links to the existing T-263. To the north, the airway provides a route west of Seattle Class B airspace to Bellingham, WA, and the Canadian border.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying three RNAV routes (T-274, T-276, and T-302), removing one RNAV route (T-304), and establishing five RNAV routes (T-268, T-317, T-328, T-332, and T-355 in the western United States qualifies for categorical exclusion under the National Environmental Policy Act and its implementing regulations at 40 CFR part 1500, and in accordance with FAA Order 1050.1F, Environmental Impacts: Policies and Procedures, paragraph 5-6.5a, with categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in with a normally categorically excluded action may have a significant environmental impact requiring further analysis. The FAA determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6011 United States Area Navigation Routes

T-268 TATOOSH, WA (TOU) to BISMARCK, ND (BIS) [New]
TATOOSH, WA (TOU) | VORTAC | (Lat. 48°17′59.64″ N, long. 124°37′37.36″ W)
HEMER, WA | WP | (Lat. 48°21′52.95″ N, long. 124°23′26.86″ W)
YUCSU, WA | FIX | (Lat. 48°11′20.81″ N, long. 123°54′25.64″ W)
NOOEL, WA | WP | (Lat. 48°10′16.13″ N, long. 123°41′14.23″ W)
WATTR, WA | FIX | (Lat. 48°08′21.35″ N, long. 122°56′27.97″ W)
LEION, WA | WP | (Lat. 48°05′00.56″ N, long. 122°39′40.75″ W)
AYURU, WA | FIX | (Lat. 47°55′22.67″ N, long. 122°16′46.30″ W)
WOODI, WA | FIX | (Lat. 47°46′07.46″ N, long. 121°51′47.70″ W)
BANDR, WA | FIX | (Lat. 47°15′30.14″ N, long. 121°29′32.11″ W)
TMBOB, WA | WP | (Lat. 47°10′32.96″ N, long. 120°56′12.17″ W)
MERFF, WA | WP | (Lat. 47°02′12.58″ N, long. 120°27′28.25″ W)
MOSES LAKE, WA (MWH) | VOR/DME | (Lat. 47°12′39.11″ N, long. 119°19′00.54″ W)
SPOKANE, WA (GEG) | VORTAC | (Lat. 47°33′53.80″ N, long. 117°37′36.79″ W)
MULLAN PASS, ID (MLP) | VOR/DME | (Lat. 47°27′24.85″ N, long. 115°38′45.76″ W)
MISSOULA, MT (MSO) | VOR/DME | (Lat. 46°54′28.68″ N, long. 114°05′01.15″ W)
HELENA, MT (HLN) | VORTAC | (Lat. 46°36′24.56″ N, long. 111°57′12.51″ W)
CONNS, MT | FIX | (Lat. 46°16′06.81″ N, long. 111°04′55.70″ W)
NUKUW, MT | FIX | (Lat. 46°04′09.77″ N, long. 110°51′18.39″ W)
SUBKY, MT | FIX | (Lat. 45°44′00.60″ N, long. 109°57′37.27″ W)
BILLINGS, MT (BIL) | VORTAC | (Lat. 45°48′30.81″ N, long. 108°37′28.73″ W)
MILES CITY, MT (MLS) | VOR/DME | (Lat. 46°22′56.02″ N, long. 105°57′12.72″ W)
DICKINSON, ND (DIK) | VORTAC | (Lat. 46°51′36.14″ N, long. 102°46′24.60″ W)
BISMARCK, ND (BIS) | VOR/DME | (Lat. 46°45′42.34″ N, long. 100°39′55.47″ W)
* * * * * * *
T-274 NEWPORT, OR (ONP) to LIDAT, NV [Amended]
NEWPORT, OR (ONP) | VORTAC | (Lat. 44°34′31.26″ N, long. 124°03′38.14″ W)
WESHH, OR | WP | (Lat. 44°38′50.00″ N, long. 123°35′32.35″ W)
CRAAF, OR | FIX | (Lat. 44°45′37.17″ N, long. 123°21′05.90″ W)
JAIME, OR | FIX | (Lat. 44°25′07.17″ N, long. 122°36′28.01″ W)
DBLEY, OR | WP | (Lat. 44°24′11.24″ N, long. 122°08′58.46″ W)
MMDSN, OR | WP | (Lat. 44°23′45.14″ N, long. 121°35′45.92″ W)
MMASN, OR | WP | (Lat. 44°21′15.22″ N, long. 121°15′36.06″ W)
POCIT, OR | FIX | (Lat. 43°41′57.75″ N, long. 121°02′52.24″ W)
FASAB, OR | WP | (Lat. 42°23′22.00″ N, long. 120°23′51.65″ W)
NUSME, CA | WP | (Lat. 41°53′43.18″ N, long. 120°20′35.71″ W)
RUFUS, CA | WP | (Lat. 41°26′00.00″ N, long. 120°00′00.00″ W)
SEDTO, NV | FIX | (Lat. 40°07′28.37″ N, long. 119°49′13.32″ W)
MUSTANG, NV (FMG) | VORTAC | (Lat. 39°31′52.60″ N, long. 119°39′21.87″ W)
COALDALE, NV (OAL) | VORTAC | (Lat. 38°00′11.74″ N, long. 117°46′13.61″ W)
LIDAT, NV | FIX | (Lat. 37°25′48.67″ N, long. 117°16′41.00″ W)
* * * * * * *
T-276 WAVLU, WA to GLASGOW, MT (GGW) [Amended]
WAVLU, WA | FIX | (Lat. 46°50′00.90″ N, long. 124°06′35.70″ W)
WINLO, WA | FIX | (Lat. 46°27′27.26″ N, long. 123°06′03.90″ W)
COUGA, WA | FIX | (Lat. 46°05′31.23″ N, long. 122°40′38.59″ W)
CARBY, WA | FIX | (Lat. 45°44′05.96″ N, long. 121°55′31.67″ W)
VECCU, WA | FIX | (Lat. 45°40′53.27″ N, long. 120°52′00.64″ W)
HUNGR, WA | WP | (Lat. 45°50′50.07″ N, long. 120°12′03.64″ W)
LAYTN, WA | WP | (Lat. 45°58′15.09″ N, long. 119°33′18.42″ W)
WALLA WALLA, WA (ALW) | VOR/DME | (Lat. 46°05′13.11″ N, long. 118°17′33.13″ W)
RENGO, WA | FIX | (Lat. 46°20′08.16″ N, long. 117°50′42.07″ W)
POTOR, WA | FIX | (Lat. 46°21′45.19″ N, long. 117°17′41.37″ W)
CUPEV, ID | FIX | (Lat. 46°21′10.44″ N, long. 116°50′03.42″ W)
HENVO, ID | WP | (Lat. 46°19′48.06″ N, long. 116°37′33.04″ W)
OFINO, ID | FIX | (Lat. 46°31′19.36″ N, long. 116°09′54.90″ W)
FRYMN, MT | FIX | (Lat. 47°17′32.40″ N, long. 111°38′36.84″ W)
YOGOS, MT | FIX | (Lat. 47°19′30.51″ N, long. 110°49′37.75″ W)
EVBUJ, MT | WP | (Lat. 47°03′09.79″ N, long. 109°44′19.14″ W)
ITEVE, MT | WP | (Lat. 47°02′12.69″ N, long. 109°10′20.79″ W)
WUDEY, MT | WP | (Lat. 47°20′13.56″ N, long. 106°56′58.95″ W)
GLASGOW, MT (GGW) | VOR/DME | (Lat. 48°12′55.10″ N, long. 106°37′31.51″ W)
* * * * * * *
T-302 CUKIS, OR to LLUKY, NE [Amended]
CUKIS, OR | WP | (Lat. 45°20′59.59″ N, long. 122°21′49.41″ W)
JJETT, OR | WP | (Lat. 44°56′35.43″ N, long. 121°40′56.36″ W)
CUPRI, OR | FIX | (Lat. 44°37′03.76″ N, long. 121°15′13.89″ W)
ZUDMI, OR | WP | (Lat. 44°19′59.29″ N, long. 120°28′10.92″ W)
WILDHORSE, OR (ILR) | VOR/DME | (Lat. 43°35′35.27″ N, long. 118°57′18.18″ W)
JOSTN, OR | WP | (Lat. 43°34′16.92″ N, long. 117°53′51.34″ W)
UKAYI, ID | WP | (Lat. 43°46′57.60″ N, long. 117°05′24.14″ W)
PARMO, ID | FIX | (Lat. 43°45′32.78″ N, long. 116°49′10.43″ W)
ADEXE, ID | WP | (Lat. 43°30′16.79″ N, long. 116°26′53.72″ W)
FEVDO, ID | WP | (Lat. 42°53′48.88″ N, long. 115°02′00.30″ W)
TOXEE, ID | FIX | (Lat. 42°41′41.81″ N, long. 114°27′13.10″ W)
JADUP, ID | WP | (Lat. 42°44′32.00″ N, long. 113°42′15.22″ W)
MIKAE, WY | WP | (Lat. 42°06′36.88″ N, long. 110°35′59.28″ W)
BXTER, WY | WP | (Lat. 41°53′13.97″ N, long. 110°04′52.38″ W)
EEBEE, WY | WP | (Lat. 41°44′07.05″ N, long. 109°35′10.21″ W)
REGVE, WY | WP | (Lat. 41°38′35.07″ N, long. 109°20′30.96″ W)
ROCK SPRINGS, WY (OCS) | VOR/DME | (Lat. 41°35′24.76″ N, long. 109°00′55.18″ W)
FIKLA, WY | WP | (Lat. 41°56′20.50″ N, long. 106°57′11.03″ W)
MEDICINE BOW, WY (MBW) | VOR/DME | (Lat. 41°50′43.88″ N, long. 106°00′15.42″ W)
SCOTTSBLUFF, NE (BFF) | VORTAC | (Lat. 41°53′38.99″ N, long. 103°28′55.31″ W)
WAKPA, NE | WP | (Lat. 42°03′21.64″ N, long. 103°04′57.99″ W)
ALLIANCE, NE (AIA) | VOR/DME | (Lat. 42°03′20.27″ N, long. 102°48′16.00″ W)
MARSS, NE | FIX | (Lat. 42°27′48.92″ N, long. 100°36′15.32″ W)
PUKFA, NE | WP | (Lat. 42°22′59.52″ N, long. 099°59′36.42″ W)
GIYED, NE | FIX | (Lat. 42°30′22.02″ N, long. 099°08′05.55″ W)
LLUKY, NE | WP | (Lat. 42°29′20.26″ N, long. 098°38′11.44″ W)
* * * * * * *
T-304 GLARA, OR to HERBS, OR [Removed]
* * * * * * *
T-317 NEWMAN, TX (EWM) to ASTORIA, OR (AST) [New]
NEWMAN, TX (EWM) | VORTAC | (Lat. 31°57′06.28″ N, long. 106°16′20.64″ W)
MOLLY, NM | FIX | (Lat. 32°03′47.91″ N, long. 106°43′27.24″ W)
Truth or Consequences, NM (TCS) | VORTAC | (Lat. 33°16′57.01″ N, long. 107°16′49.97″ W)
SOCORRO, NM (ONM) | VORTAC | (Lat. 34°20′20.04″ N, long. 106°49′13.69″ W)
YECUG, NM | WP | (Lat. 34°59′18.02″ N, long. 106°59′58.00″ W)
AWASH, NM | FIX | (Lat. 35°16′35.44″ N, long. 106°59′15.33″ W)
RATTLESNAKE, NM (RSK) | VORTAC | (Lat. 36°44′54.21″ N, long. 108°05′56.04″ W)
GRAND JUNCTION, CO (JNC) | VOR/DME | (Lat. 39°03′34.44″ N, long. 108°47′33.27″ W)
ROCK SPRINGS, WY (OCS) | VOR/DME | (Lat. 41°35′24.76″ N, long. 109°00′55.18″ W)
SWEAT, WY | FIX | (Lat. 42°26′35.02″ N, long. 108°27′10.31″ W)
RIVERTON, WY (RIW) | VOR/DME | (Lat. 43°03′56.63″ N, long. 108°27′19.92″ W)
FETIK, WY | FIX | (Lat. 43°17′24.59″ N, long. 108°22′03.98″ W)
CRANY, WY | FIX | (Lat. 44°15′45.64″ N, long. 108°24′27.47″ W)
BILLINGS, MT (BIL) | VORTAC | (Lat. 45°48′30.81″ N, long. 108°37′28.73″ W)
TASSE, MT | FIX | (Lat. 46°03′57.65″ N, long. 108°58′12.87″ W)
JUGAP, MT | FIX | (Lat. 46°38′42.20″ N, long. 109°45′53.32″ W)
ZERZO, MT | FIX | (Lat. 46°52′25.99″ N, long. 110°05′08.51″ W)
AUBBY, MT | WP | (Lat. 47°18′52.66″ N, long. 111°05′42.95″ W)
GREAT FALLS, MT (GTF) | VORTAC | (Lat. 47°26′59.93″ N, long. 111°24′43.79″ W)
MISSOULA, MT (MSO) | VOR/DME | (Lat. 46°54′28.68″ N, long. 114°05′01.15″ W)
NEZ PERCE, ID (MQG) | VOR/DME | (Lat. 46°22′53.61″ N, long. 116°52′10.24″ W)
PASCO, WA (PSC) | VOR/DME | (Lat. 46°16′12.96″ N, long. 119°07′02.27″ W)
FEBUS, WA | FIX | (Lat. 46°53′58.90″ N, long. 119°52′13.74″ W)
MERFF, WA | WP | (Lat. 47°02′12.58″ N, long. 120°27′28.25″ W)
WUSVI, WA | WP | (Lat. 47°02′51.47″ N, long. 120°58′08.35″ W)
RADDY, WA | FIX | (Lat. 47°04′28.09″ N, long. 121°30′58.25″ W)
MOUNT, WA | FIX | (Lat. 47°06′19.17″ N, long. 121°54′17.49″ W)
COFAY, WA | WP | (Lat. 47°04′43.83″ N, long. 122°30′01.57″ W)
FESAS, WA | WP | (Lat. 47°05′13.84″ N, long. 122°44′00.62″ W)
OZEYO, WA | FIX | (Lat. 46°46′36.50″ N, long. 123°08′27.05″ W)
ASTORIA, OR (AST) | VOR/DME | (Lat. 46°09′42.11″ N, long. 123°52′49.36″ W)
* * * * * * *
T-328 ORCUS, WA to KARSH, MT [New]
ORCUS, WA | FIX | (Lat. 48°20′39.54″ N, long. 123°07′44.01″ W)
BOCAT, WA | FIX | (Lat. 48°20′32.01″ N, long. 122°09′44.74″ W)
CREEB, WA | FIX | (Lat. 48°13′00.00″ N, long. 121°20′24.00″ W)
ROZSE, WA | WP | (Lat. 48°13′22.57″ N, long. 121°01′45.71″ W)
KRUZR, WA | FIX | (Lat. 48°04′38.90″ N, long. 120°34′40.72″ W)
KLSEY, WA | WP | (Lat. 48°00′48.36″ N, long. 119°33′35.71″ W)
SINGG, WA | WP | (Lat. 47°59′30.00″ N, long. 119°00′00.00″ W)
ROZTY, WA | WP | (Lat. 48°03′46.12″ N, long. 117°56′38.05″ W)
PRRKS, WA | WP | (Lat. 48°08′48.19″ N, long. 117°31′08.00″ W)
DAINA, WA | WP | (Lat. 48°08′43.44″ N, long. 117°07′27.78″ W)
INOBE, ID | FIX | (Lat. 48°04′54.58″ N, long. 116°45′47.03″ W)
RNDDY, ID | WP | (Lat. 48°09′16.26″ N, long. 116°15′12.45″ W)
KAPPN, MT | WP | (Lat. 48°09′23.04″ N, long. 115°28′13.84″ W)
KARSH, MT | WP | (Lat. 48°08′52.72″ N, long. 115°07′55.44″ W)
* * * * * * *
T-332 ZONUV, WA to ROZTY, WA [New]
ZONUV, WA | WP | (Lat. 48°34′10.29″ N, long. 122°44′14.63″ W)
CRNEL, WA | WP | (Lat. 48°28′19.45″ N, long. 122°13′20.64″ W)
AALIX, WA | WP | (Lat. 48°30′15.89″ N, long. 121°45′22.85″ W)
BAALE, WA | WP | (Lat. 48°26′42.58″ N, long. 121°24′56.40″ W)
SNNDY, WA | WP | (Lat. 48°22′51.69″ N, long. 121°12′38.31″ W)
METOO, WA | WP | (Lat. 48°22′59.81″ N, long. 120°07′42.05″ W)
ROZTY, WA | WP | (Lat. 48°03′46.12″ N, long. 117°56′38.05″ W)
* * * * * * *
T-355 FOLDS, CA to SECOG, WA [New]
FOLDS, CA | FIX | (Lat. 40°44′16.56″ N, long. 122°30′10.69″ W)
GRENA, CA | FIX | (Lat. 41°43′31.31″ N, long. 122°29′09.72″ W)
ROMAE, CA | FIX | (Lat. 41°56′06.70″ N, long. 122°42′00.90″ W)
TALEM, OR | FIX | (Lat. 42°08′49.70″ N, long. 122°52′41.50″ W)
SAMIE, OR | FIX | (Lat. 42°38′46.29″ N, long. 123°00′57.97″ W)
BROKN, OR | FIX | (Lat. 42°45′37.47″ N, long. 122°57′53.29″ W)
KINZY, OR | WP | (Lat. 43°14′30.62″ N, long. 122°19′37.46″ W)
SSTRS, OR | WP | (Lat. 43°40′36.47″ N, long. 121°34′47.27″ W)
OCTAD, OR | FIX | (Lat. 44°00′19.92″ N, long. 121°21′18.11″ W)
HERBS, OR | FIX | (Lat. 44°25′07.23″ N, long. 121°16′51.75″ W)
JJETT, OR | WP | (Lat. 44°56′35.43″ N, long. 121°40′56.36″ W)
GLARA, OR | FIX | (Lat. 45°16′40.41″ N, long. 122°36′11.35″ W)
CANBY, OR | FIX | (Lat. 45°18′38.05″ N, long. 122°45′53.61″ W)
KKARP, OR | WP | (Lat. 46°07′45.39″ N, long. 123°26′42.06″ W)
CETUV, WA | FIX | (Lat. 46°35′59.91″ N, long. 123°21′20.75″ W)
ZOLGI, WA | FIX | (Lat. 47°16′22.73″ N, long. 122°56′15.63″ W)
WUMOX, WA | FIX | (Lat. 47°35′07.83″ N, long. 122°40′26.84″ W)
ZONUV, WA | WP | (Lat. 48°34′10.29″ N, long. 122°44′14.63″ W)
UCAKI, WA | WP | (Lat. 48°47′33.45″ N, long. 122°39′48.81″ W)
SECOG, WA | FIX | (Lat. 48°59′42.80″ N, long. 122°32′17.97″ W)

* * * * *

Issued in Washington, DC, on November 13, 2019.
Rodger A. Dean Jr.,
Acting Manager, Rules and Regulations Group.

[FR Doc. 2019-25047 Filed 11-19-19; 8:45 am]

BILLING CODE 4910-13-P